DEPARTMENT OF HOMELAND SECURITY

Coast Guard

[COTP New Orleans 07-019]

Area Maritime Security Committee, New Orleans; Vacancies

AGENCY: Coast Guard, DHS.

ACTION: Request for applications.

SUMMARY: The Coast Guard seeks applications for membership in the Area Maritime Security Committee, New Orleans. The Committee assists the Captain of the Port, New Orleans, in developing, reviewing, and updating the Area Maritime Security Plan for their area of responsibility.

DATES: Requests for membership should reach the Captain of the Port, New Orleans, on October 25, 2007.

ADDRESSES: Submit applications for membership to the Captain of the Port, New Orleans, Attn: Planning Department, 201 Hammond Hwy., Metairie, La. 70005.

FOR FURTHER INFORMATION CONTACT: Mr. Roy Ford at 504-565-5092 or Mr. James Nolan 504-565-5085.

SUPPLEMENTARY INFORMATION:

The Committee

The Area Maritime Security Committee, New Orleans (the Committee), is established under, and governed by, 33 CFR part 103, subpart C. The functions of the Committee include, but are not limited to, the following:

(1) Identifying critical port infrastructure and operations.

(2) Identifying risks (i.e., threats, vulnerabilities, and consequences).

(3) Determining strategies and implementation methods for mitigation.

(4) Developing and describing the process for continuously evaluating overall port security by considering consequences and vulnerabilities, how they may change over time, and what additional mitigation strategies can be applied.

(5) Advising and assisting the Captain of the Port in developing, reviewing, and updating the Area Maritime Security Plan under 33 CFR part 103, subpart E.

Positions Available on the Committee

There are 8 vacancies on the Committee. Members may be selected from—

(1) The Federal, Territorial, or Tribal government;

(2) The State government and political subdivisions of the State;

(3) Local public safety, crisis management, and emergency response agencies;

(4) Law enforcement and security organizations;

(5) Maritime industry, including labor;

(6) Other port stakeholders having a special competence in maritime security; and

(7) Port stakeholders affected by security practices and policies.

In support of the Coast Guard's policy on gender and ethnic diversity, we encourage qualified women and members of minority groups to apply.

Qualification of Members

Members must have at least 5 years of experience related to maritime or port security operations. Applicants may be required to pass an appropriate security background check before appointment to the Committee.

The term of office for each vacancy is 5 years. However, a member may serve one additional term of office. Members are not salaried or otherwise compensated for their service on the Committee.

Format of Applications

Applications for membership may be in any format. However, because members must demonstrate an interest in the security of the area covered by the Committee, we particularly encourage the submission of information highlighting experience in maritime or security matters.

Authority

Section 102 of the Maritime Transportation Security Act of 2002 (Pub. L. 107-295) (the Act) authorizes the Secretary of the Department in which the Coast Guard is operating to establish Area Maritime Security Committees for any port area of the United States. See 33 U.S.C. 1226; 46 U.S.C. 70112(a)(2); 33 CFR 103.205; Department of Homeland Security Delegation No. 0170.1. The Act exempts Area Maritime Security Committees from the Federal Advisory Committee Act (FACA), 5 U.S.C. App. (Pub. L. 92-463).

Dated: August 31, 2007.
L.D. Stroh,
Captain, U.S. Coast Guard, Captain of the Port, New Orleans.

[FR Doc. E7-18886 Filed 9-24-07; 8:45 am]

BILLING CODE 4910-15-P